DEPARTMENT OF ENERGY

Federal Energy Regulatory Commission

[Project No. 13281-000]

Alaska Power & Telephone Company; Notice of Preliminary Permit Application Accepted for Filing and Soliciting Comments, Motions To Intervene, and Competing Applications

January 7, 2009.

On August 19, 2008, and supplemented on November 12, 2008, Alaska Power & Telephone Company filed an application, pursuant to section 4(f) of the Federal Power Act, proposing to study the feasibility of the Lake Shelokum Hydroelectric Project (Lake Shelokum). Lake Shelokum would be located on Lake Shelokum in the Prince of Wales—Outer Ketchikan Census Area, First Judicial District, Unincorporated Borough, Alaska. The proposed project would be located within the Tongass National Forest, whose lands are administered by the U.S. Forest Service.

The proposed Lake Shelokum project would consist of: (1) A proposed 100-foot-long, 15-foot-high concrete-faced, rock filled dam; (2) an existing reservoir having a proposed surface area of 400 acres and a storage capacity of 10,000 acre-feet and normal water surface elevation of 370 feet above mean low sea level (msl); (3) a proposed 2,500-foot-long, 7-foot diameter steel penstock; (4) a proposed powerhouse containing two generating units having an installed capacity of 10-megawatts; (5) a proposed 12-mile-long, 34.5-kilovault transmission line; and (6) appurtenant facilities. The proposed Lake Shelokum Project would have an average annual generation of 40-gigawatt-hours.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13281) in the docket number field to access the document. For assistance, call toll-free 1-866-208-3372.

Kimberly D. Bose,
Secretary.

[FR Doc. E9-544 Filed 1-13-09; 8:45 am]

BILLING CODE 6717-01-P